FEDERAL HOUSING FINANCE AGENCY

12 CFR Part 1229

RIN 2590-AA21

Capital Classifications and Critical Capital Levels for the Federal Home Loan Banks

AGENCY: Federal Housing Finance Agency.

ACTION: Interim final rule; extension of comment period.

SUMMARY: The Federal Housing Finance Agency (FHFA) published in the Federal Register of January 30, 2009, an interim final rule with request for comments that implemented the statutory requirement of the Housing and Economic Recovery Act of 2008 that FHFA specify critical capital levels for the Federal Home Loan Banks (Bank(s)). Specifically, the interim final rule defined the critical capital level for each Bank; established criteria based on the amount and type of capital held by a Bank for each of the following capital classifications: adequately capitalized, undercapitalized, significantly undercapitalized and critically undercapitalized; and delineated FHFA's prompt corrective action authority over the Banks.

The E-mail address to submit comments that was listed in the interim final rule of January 30, 2009, was incorrect. The correct E-mail address is listed below. To compensate for this error, FHFA is extending the comment period 15 days until May 15, 2009, to allow all interested parties additional time to submit comments on the interim final rule.

DATES: Comments on the interim final rule must be received on or before May 15, 2009. For additional information, see SUPPLEMENTARY INFORMATION.

ADDRESSES: You may submit your comments on the interim final rule, identified by regulatory information number (RIN) 2590-AA21 by any of the following methods:

• U.S. Mail, United Parcel Post, Federal Express, or Other Mail Service: The mailing address for comments is: Alfred M. Pollard, General Counsel and Christopher T. Curtis, Senior Deputy General Counsel, Attention: Comments/RIN 2590-AA21, Federal Housing Finance Agency, Fourth Floor, 1700 G Street, NW., Washington, DC 20552.

• Hand Delivered/Courier: The hand delivery address is: Alfred M. Pollard, General Counsel and Christopher T. Curtis, Senior Deputy General Counsel, Attention: Comments/RIN 2590-AA21, Federal Housing Finance Agency, Fourth Floor, 1700 G Street, NW., Washington, DC 20552. The package should be logged at the Guard Desk, First Floor, on business days between 9 a.m. and 5 p.m.

• E-mail: Comments to Alfred M. Pollard, General Counsel and Christopher T. Curtis, Senior Deputy General Counsel, may be sent by e-mail to RegComments@FHFA.gov. Please include “RIN 2590-AA21” in the subject line of the message.

• Federal eRulemaking Portal: http://www.regulations.gov. Follow the instructions for submitting comments.

FOR FURTHER INFORMATION CONTACT: Julie Paller, Senior Financial Analyst, (202) 408-2842, and Anthony Cornyn, Senior Associate Director, (202) 408-2522, Division of Federal Home Loan Bank Regulation, Federal Housing Finance Agency, 1625 Eye Street, NW., Washington, DC 20006; or Thomas E. Joseph, Senior Attorney-Advisor, (202) 408-2512, Office of General Counsel, Federal Housing Finance Agency, Fourth Floor, 1700 G Street, NW., Washington, DC 20552. The telephone number for the Telecommunications Device for the Deaf is (800) 877-8339.

SUPPLEMENTARY INFORMATION: The FHFA invites comments on all aspects of the interim final rule, and will amend the rule as appropriate after taking all comments into consideration. Copies of all comments will be posted on the internet Web site at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at (202) 414-3751.

Dated: March 20, 2009.
James B. Lockhart, III,
Director, Federal Housing Finance Agency.

[FR Doc. E9-6780 Filed 3-25-09; 8:45 am]

BILLING CODE 8070-01-P